FEDERAL MARITIME COMMISSION

Ocean Transportation Intermediary License; Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 1367NF.

Name: BLG Incorporated dba Cross Water Line.

Address: 350 Albany Street, Suite 6 I, New York, NY 10280.

Date Revoked: October 25, 2002.

Reason: Failed to maintain valid bonds.

License Number: 16712NF.

Name: Eagle International Express Ltd. dba Eagle International Ltd., dba Eagle Express, An Eagle Company.

Address: 2765 Old Higgins Road, Elk Grove Village, IL 60007.

Date Revoked: October 23, 2002.

Reason: Failed to maintain valid bonds.

License Number: 173NF.

Name: International Shipping Corporation.

Address: 2630 NW 112th Avenue, Miami, FL 33172-1818.

Date Revoked: November 7,2002.

Reason: Failed to maintain valid bonds.

License Number: 12190N.

Name: Reliable Overseas Shipping & Trading, Inc.

Address: 239-241 Kingston Avenue, Brooklyn, NY 11213.

Date Revoked: November 16, 2002.

Reason: Failed to maintain a valid bond.

December 20, 2002.
Sandra L. Kusumoto,
Director, Bureau of Consumer Complaints and Licensing.

[FR Doc. 02-32579 Filed 12-24-02; 8:45 am]

BILLING CODE 6730-01-P